ENVIRONMENTAL PROTECTION AGENCY

[EPA-HQ-OAR-2010-0690; FRL-9922-35-OEI]

Information Collection Request Submitted to OMB for Review and Approval; Comment Request; EPA's Light-Duty In-Use Vehicle Testing Program (Renewal)

AGENCY: Environmental Protection Agency (EPA).

ACTION: Notice.

SUMMARY: The Environmental Protection Agency (EPA) has submitted an information collection request (ICR), “EPA's Light-Duty In-Use Vehicle Testing Program (Renewal)” (EPA ICR No. 0222.10, OMB Control No. 2060-0086) to the Office of Management and Budget (OMB) for review and approval in accordance with the Paperwork Reduction Act (PRA) (44 U.S.C. 3501 et seq.). This is a proposed extension of the ICR, which is currently approved through March 31, 2015. Public comments were previously requested via the Federal Register (79 FR 57928) on September 26, 2014 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before April 27, 2015.

ADDRESSES: Submit your comments, referencing Docket ID No. EPA-HQ-OAR-2010-0690, to (1) EPA online using www.regulations.gov (our preferred method) or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Lynn Sohacki, Compliance Division, Office of Transportation and Air Quality, U.S. Environmental Protection Agency, 2000 Traverwood, Ann Arbor, Michigan 48105; telephone number: 734-214-4851; fax number: 734-214-4869; email address: sohacki.lynn@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: EPA has an ongoing program to evaluate the emission performance of in-use light-duty (passenger car and light truck) motor vehicles through surveillance and compliance testing, as well as special investigations in compliance with the Clean Air Act (42 U.S.C. 7541).

This ICR involves light-duty surveys and vehicle testing, which is strictly voluntary. A group of 25 to 50 potential participants is identified from state vehicle registration records. Three of the respondent pool are asked survey questions concerning vehicle condition, operation and maintenance. Additional groups of potential participants may be contacted until a sufficient number of vehicles have been obtained. Owners verify the survey information when they deliver their vehicles to EPA, release the vehicle to EPA, voluntarily provide maintenance records for copying, receive a cash incentive and, if requested, a loaner car, then receive the vehicle from EPA at the conclusion of the testing.

Form Numbers: 5900-304, 5900-305, 5900-306, 5900-307, 5900-308, 5900-309.

Respondents/affected entities: Vehicle owners.

Respondent's obligation to respond: Voluntary.

Estimated number of respondents: 160 (total).

Frequency of response: On occasion.

Total estimated burden: 505 hours (per year). Burden is defined at 5 CFR 1320.03(b).

Total estimated cost: $11,277, which includes $0 annualized capital or operational & maintenance costs.

Changes in Estimates: There is a decrease of 16 hours in the total estimated respondent burden compared with the ICR currently approved by OMB. This decrease is due to an adjustment of testing estimates based on the number and type of testing that has been conducted in this program over the past few years.

Courtney Kerwin,
Acting Director, Collection Strategies Division.

[FR Doc. 2015-06906 Filed 3-25-15; 8:45 am]

BILLING CODE 6560-50-P